DEPARTMENT OF COMMERCE

National Oceanic and Atmospheric Administration

Evaluation of Coastal Zone Management Programs and National Estuarine Research Reserves

AGENCY: Office of Ocean and Coastal Resource Management, National Ocean Service, National Oceanic and Atmospheric Administration (NOAA), DOC.

ACTION: Notice of intent to evaluate.

SUMMARY: The NOAA Office of Ocean and Coastal Resource Management (OCRM) announces its intent to evaluate the performance of the Hawaii Coastal Management Program; the Narragansett Bay National Estuarine Research Reserve, Rhode Island; the Minnesota Coastal Management Program; the Hudson River National Estuarine Research Reserve, New York; and the Washington Coastal Management Program and Padilla Bay National Estuarine Research Reserve, Washington.

The Coastal Zone Management Program evaluations will be conducted pursuant to section 312 of the Coastal Zone Management Act of 1972 (CZMA), as amended, and regulations at 15 CFR Part 923, Subpart L. The National Estuarine Research Reserve evaluations will be conducted pursuant to sections 312 and 315 of the CZMA and regulations at 15 CFR Part 921, Subpart E and Part 923, Subpart L.

The CZMA requires continuing review of the performance of states with respect to coastal program implementation. Evaluation of Coastal Zone Management Programs and National Estuarine Research Reserves requires findings concerning the extent to which a state has met the national objectives, adhered to its Coastal Management Program document or Reserve final management plan approved by the Secretary of Commerce, and adhered to the terms of financial assistance awards funded under the CZMA.

The evaluations will include a site visit, consideration of public comments, and consultations with interested Federal, state, and local agencies and members of the public. Public meetings will be held as part of the site visits.

Notice is hereby given of the dates of the site visits for the listed evaluations, and the dates, local times, and locations of the public meetings during the site visits.

The Hawaii Coastal Management Program evaluation site visit will be held August 23-27, 2004. One public meeting will be held during the week. The public meeting will be on Monday, August 23, 2004, at 6 p.m., at St. Andrew's Priory School, Kennedy Hall, Room K111, 224 Queen Emma Square, Honolulu, Hawaii.

The Narragansett Bay National Estuarine Research Reserve, Rhode Island, evaluation site visit will be held September 14-17, 2004. One public meeting will be held during the week. The public meeting will be on Wednesday, September 15, 2004, at 12 noon at 55 South Reserve Drive, Prudence Island, Rhode Island.

The Minnesota Coastal Management Program evaluation site visit will be held September 27-October 1, 2004. Two public meetings will be held during the week. The first public meeting will be on Monday, September 27, 2004, at 7 p.m., in the Large Conference Room at the Minnesota Pollution Control Agency, 525 South Lake Avenue, Suite 400, Duluth, Minnesota. The second public meeting will be on Wednesday, September 29, 2004, at 6 p.m., in the Board Room at the Cook County Courthouse, 411 West Second Street, Grand Marais, Minnesota.

The Hudson River National Estuarine Research Reserve, New York, evaluation site visit will be held September 28-30, 2004. One public meeting will be held during the week. The public meeting will be on Wednesday, September 29, 2004, at 7 p.m., at the Tivoli Bays Visitor Center, Watts DePeyster Fireman's Hall, 1 Tivoli Commons, Tivoli, New York.

The Washington Coastal Management Program and Padilla Bay National Estuarine Research Reserve, Washington, joint evaluation site visit will be held September 27-October 1, 2004. One joint public meeting will be held during the week. The joint public meeting will be held on Wednesday, September 29, 2004, at 7 p.m., in the Evergreen Room, Washington State University Extension, 600 128th Street, SE., Everett, Washington.

Copies of states' most recent performance reports, as well as OCRM's notifications and supplemental request letters to the states, are available upon request from OCRM. Written comments from interested parties regarding these Programs are encouraged and will be accepted for each Program until 15 days after the last public meeting held for that Program. Please direct written comments to: Ralph Cantral, Chief, National Policy and Evaluation Division, Office of Ocean and Coastal Resource Management, NOS/NOAA, 1305 East-West Highway, N/ORM7, 10th Floor, Silver Spring, Maryland 20910. When the evaluations are completed, OCRM will place a notice in the Federal Register announcing the availability of the Final Evaluation Findings.

FOR FURTHER INFORMATION CONTACT: Ralph Cantral, Chief, National Policy and Evaluation Division, Office of Ocean and Coastal Resource Management, NOS/NOAA, 1305 East-West Highway, N/ORM7, 10th Floor, Silver Spring, Maryland 20910, (301) 713-3155, Extension 118.

Dated: July 12, 2004.
Eldon Hout,
Director, Office of Ocean and Coastal Resource Management.

Federal Domestic Assistance Catalog 11.419, Coastal Zone Management Program Administration.

[FR Doc. 04-16241 Filed 7-15-04; 8:45 am]

BILLING CODE 3510-08-U